DEPARTMENT OF DEFENSE

Department of the Army; Army Corps of Engineers

Notice of Intent To Prepare an Environmental Impact Statement for the American River Common Features General Reevaluation Report, Sacramento, CA

AGENCY: Department of the Army, U.S. Army Corps of Engineers; DOD.

ACTION: Notice of intent.

SUMMARY: The action being taken is the preparation of an environmental impact statement (EIS) for the American River Common Features General Reevaluation Report (GRR). The Common Features Project GRR will re-evaluate the currently authorized plan as well as develop and evaluate other viable alternatives, including a locally-preferred plan, with the goal of identifying a comprehensive plan that will lower the risk of flooding in and around the City of Sacramento. The Common Features Project GRR is located in Sacramento, Sutter and Yolo Counties, CA.

DATES: A series of public scoping meetings will be held as follows:

1. March 5, 2008, 5 to 7 p.m. at The Elk's Lodge.

2. March 6, 2008, 5 to 7 p.m. at Arden Park Community Center, Room A.

3. March 10, 2008, 3 to 6 p.m. at The Library Galleria East Meeting Room.

4. March 13, 2008, 5 to 7 p.m. at The Sierra Health Foundation.

Send written comments by April 11, 2008 to the address below.

ADDRESSES: Written comments and suggestions concerning this study may be submitted to Ms. Elizabeth Holland, U.S. Army Corps of Engineers, Sacramento District, Attn: Planning Division (CESPK-PD-R), 1325 J Street, Sacramento, CA 95814. Requests to be placed on the mailing list should also be sent to this address. The location of the public meetings is as follows; The Elks Lodge, 6446 Riverside Blvd., Sacramento, CA; Arden Park Community Center, 1000 La Sierra Drive, Sacramento, CA; Library Galleria, 828 “I” Street, Sacramento, CA; and Sierra Health Foundation, 1321 Garden Highway, Sacramento, CA.

FOR FURTHER INFORMATION CONTACT: Questions about the proposed action and EIS should be addressed to Liz Holland at (916) 557-6763, e-mail Elizabeth.g.holland@usace.army.mil or by mail to (see ADDRESSES).

SUPPLEMENTARY INFORMATION:

1. Proposed Action. The U.S. Army Corps of Engineers is preparing an EIS to analyze the impacts of a range of alternatives that would lessen the risk of flooding in and around the City of Sacramento.

2. Alternatives. The EIS will address an array of flood control improvement alternatives that are intended to reduce flood risk within the project area. Alternatives analyzed during the investigation will include a combination of one or more flood protection measures. These measures include levee improvements (e.g., seepage berms, adjacent setback levees, seepage wells, seepage cutoff walls), revisions to system hydraulics through setbacks, levee raises, and/or more diversion of flow into the bypass system, and possible use of upstream lands for detention.

3. Scoping Process. a. A series of public scoping meeting will be held in early March, 2008 to present information to the public and to receive comments from the public. These meetings are intended to initiate the process to involve concerned individuals, and local, State, and Federal agencies.

b. Significant issues to be analyzed in depth in the EIS include effects on hydraulics, wetlands and other waters of the U.S., vegetation and wildlife resources, special-status species, esthetics, cultural resources, recreation, land use, fisheries, water quality, air quality, transportation, and socioeconomics; and cumulative effects of related projects in the study area.

c. The Corps is consulting with the State Historic Preservation Officer to comply with the National Historic Preservation Act and the U.S. Fish and Wildlife Service and National Marine Fisheries Service to comply with the Endangered Species Act. The Corps is also coordinating with the U.S. Fish and Wildlife Service to comply with the Fish and Wildlife Coordination Act.

d. A 45-day public review period will be provided for individuals and agencies to review and comment on the draft EIS. All interested parties are encouraged to respond to this notice and provide a current address if they wish to be notified of the draft EIS circulation.

4. Availability. The draft EIS is scheduled to be available for public review and comment in spring 2010.

Dated: February 15, 2008.
Thomas C. Chapman,
COL, EN, Commanding.

[FR Doc. E8-3922 Filed 2-28-08; 8:45 am]

BILLING CODE 3710-EZ-P